DEPARTMENT OF HOMELAND SECURITY

Federal Emergency Management Agency

[Docket ID FEMA-2023-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of November 16, 2023 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Nicholas A. Shufro,
Deputy Assistant Administrator for Risk Management, Federal Emergency Management Agency, Department of Homeland Security.

Community | Community map repository address
Alpine County, California Unincorporated Areas
Docket No.: FEMA-B-2260
Unincorporated Areas of Alpine County | Alpine County Public Works Community Development, 50 Diamond Valley Road, Markleeville, CA 96120.
Van Buren County, Michigan (All Jurisdictions)
Docket No.: FEMA-B-2223
City of South Haven | City Hall, 539 Phoenix Street, South Haven, MI 49090.
Charter Township of South Haven | Township Hall, 09761 Blue Star Memorial Highway, South Haven, MI 49090.
Township of Covert | Township Hall, 73943 East Lake Street, Covert, MI 49043.
Oswego County, New York (All Jurisdictions)
Docket No.: FEMA-B-2173
City of Oswego | City Hall, Engineering Office, Third Floor, 13 West Oneida Street, Oswego, NY 13126.
Town of Mexico | Town Office, 64 South Jefferson Street, Mexico, NY 13114.
Town of New Haven | Town Hall, 4279 State Route 104, New Haven, NY 13121.
Town of Oswego | Town Hall, 2320 County Route 7, Oswego, NY 13126.
Town of Richland | Richland Town Hall, 1 Bridge Street, Pulaski, NY 13142.
Town of Sandy Creek | Town Hall, 1992 Harwood Drive, Sandy Creek, NY 13145.
Town of Scriba | Scriba Municipal Building, 42 Creamery Road, Oswego, NY 13126.
Grant County, North Dakota and Incorporated Areas
Docket No.: FEMA-B-2263
City of Carson | Nodak Mutual Insurance Building, 100 Main Street South, Carson, ND 58529.
City of Leith | Grant County Courthouse, 106 2nd Avenue Northeast, Carson, ND 58529.
City of New Leipzig | City Hall, 19 1st Street East, New Leipzig, ND 58562.
Unincorporated Areas of Grant County | Grant County Courthouse, 106 2nd Avenue Northeast, Carson, ND 58529.
Madison County, Ohio and Incorporated Areas
Docket No.: FEMA-B-2269
Village of West Jefferson | Village Hall, 28 East Main Street, West Jefferson, OH 43162.
Arlington County, Virginia (All Jurisdictions)
Docket No.: FEMA-B-2134, FEMA-B-2256
Unincorporated Areas of Arlington County | Arlington County Department of Environmental Services, 2100 Clarendon Boulevard, Suite 705, Arlington, VA 22201.
City of Fairfax,Virginia, Independent City
Docket No.: FEMA-B-2129 and FEMA-B-2256
City of Fairfax | Department of Public Works, 10455 Armstrong Street, City Hall Annex, Room 200 A, Fairfax, VA 22030.

[FR Doc. 2023-12874 Filed 6-15-23; 8:45 am]

BILLING CODE 9110-12-P